CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its proposed implementation of four forms and their electronic and print versions of the Request to Transfer a Segal Education Award Amount Form, the Accept/Decline Award Transfer Form, the Request to Revoke Transfer of Education Award Form, and the Rescind Acceptance of Award Transfer Form. The information collected identifies those qualified to transfer their award, the transfer amount, and those qualified to receive the award transfer, in accordance with the provisions of 42 U.S.C. 12501.

Copies of the information collection requests can be obtained by contacting the office listed in the addresses section of this Notice.

DATES: Written comments must be submitted to the individual and office listed in the ADDRESSES section by February 7, 2011.

ADDRESSES: You may submit comments, identified by the title of the information collection activity, by any of the following methods:

(1) By mail sent to: Corporation for National and Community Service, Attn: Bruce Kellogg, 8309C, 1201 New York Avenue, NW., Washington, DC 20525.

(2) By hand delivery or by courier to the Corporation's mailroom at Room 8100 at the mail address given in paragraph (1) above, between 9 a.m. and 4 p.m. Monday through Friday, except Federal holidays.

(3) By fax to: (202) 606-3492 Attn: Bruce Kellogg.

(4) Electronically through http://www.regulations.gov. Individuals who use a telecommunications device for the deaf (TTY-TDD) may call (202) 606-3472 between 8:30 a.m. and 5 p.m. Eastern Time, Monday through Friday.

FOR FURTHER INFORMATION CONTACT: Bruce Kellogg, (202) 606-6954, or by e-mail at bkellogg@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The information is collected from qualified members who wish to transfer all or a part of their education award and from qualified recipients of the award transfer electronically via the My AmeriCorps Portal, the Corporation's secure online program management system. If members are unable to apply on-line, they can use printed forms and instructions to submit their application.

Current Action

This new information collection request implements provisions of the recently enacted Serve America Act (42 U.S.C. 12501) which authorizes AmeriCorps members to transfer all or a part of an education award, with limitations on who can transfer an award and on who can receive the transferred award.

Type of Review: New.

Agency: Corporation for National and Community Service.

Title: Request to Transfer a Segal Education Award Amount Form, Accept/Decline Award Transfer Form, Request to Revoke Transfer of Education Award Form, and Rescind Acceptance of Award Transfer Form.

OMB Number: None.

Agency Number: None.

Affected Public: Qualifying AmeriCorps members and education award transfer recipients.

Total Respondents: 100.

Frequency: Annually.

Average Time per Response: Averages 5 minutes.

Estimated Total Burden Hours: 8.33.

Total Burden Cost (capital/startup): None.

Total Burden Cost (operating/maintenance): None.

Comments submitted in response to this notice will be summarized and/or included in the request for Office of Management and Budget approval of the information collection request; they will also become a matter of public record.

Dated: December 1, 2010.
William Anderson,
Chief Financial Officer.

[FR Doc. 2010-30699 Filed 12-7-10; 8:45 am]

BILLING CODE 6050-$$-P